FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 15, 2019.

A. Federal Reserve Bank of Minneapolis (Mark A. Rauzi, Vice President) 90 Hennepin Avenue, Minneapolis, Minnesota 55480-0291:

1. Patricia Readel, West Fargo, North Dakota, and Robert Zabel, Browns Valley, Minnesota and Wendy Gruby, Browns Valley, Minnesota, Lindsay Zabel, Waconia, Minnesota, Michael Readel, Moorhead, Minnesota, and Amanda Readel, West Fargo, North Dakota, as part of a group acting in concert with Patricia Readel and Robert Zabel; to retain and acquire voting shares of Browns Valley Bancshares, Inc. and thereby indirectly acquire shares of Union State Bank of Browns Valley, both of Browns Valley, Minnesota.

2. Tiffany Baer Paine and Ryan T. Baer, both of Bemidji, Minnesota; to acquire voting shares of Security State Bancshares of Bemidji, Inc. and thereby indirectly acquire shares of Security Bank USA, both of Bemidji, Minnesota.

B. Federal Reserve Bank of Kansas City (Dennis Denney, Assistant Vice President) 1 Memorial Drive, Kansas City, Missouri 64198-0001:

1. Stanley A. Judd, Fairbury, Nebraska; to retain voting shares of Washington 1st Banco, Inc., and thereby indirectly retain shares of FNB Washington, both of Washington, Kansas.

Board of Governors of the Federal Reserve System, July 30, 2019.
Yao-Chin Chao,
Assistant Secretary of the Board.

[FR Doc. 2019-16555 Filed 8-1-19; 8:45 am]

BILLING CODE 6210-01-P